DEPARTMENT OF ENERGY

Federal Energy Regulatory Commission

[Project No. 2853-073]

Montana Department of Natural Resources and Conservation; Notice of Waiver Period for Water Quality Certification Application

On September 5, 2023, the Montana Department of Natural Resources and Conservation submitted to the Federal Energy Regulatory Commission (Commission) a copy of its application for a Clean Water Act section 401(a)(1) water quality certification filed with the Maine Department of Environmental Quality (Montana DEQ), in conjunction with the above captioned project. Pursuant to section 401 of the Clean Water Act ¹ and section 4.34(b)(5) of the Commission's regulations,² a state certifying agency is deemed to have waived its certifying authority if it fails or refuses to act on a certification request within a reasonable period of time, which is one year after the date the certification request was received. Accordingly, we hereby notify Montana DEQ of the following:

¹ 33 U.S.C. 1341(a)(1).

² 18 CFR 4.34(b)(5) (2022).

Date Montana DEQ received the certification request: September 1, 2023.

If Montana DEQ fails or refuses to act on the water quality certification request on or before September 1, 2024, then the agency certifying authority is deemed waived pursuant to Section 401(a)(1) of the Clean Water Act, 33 U.S.C. 1341(a)(1).

Dated: September 6, 2023.
Kimberly D. Bose,
Secretary.

[FR Doc. 2023-19655 Filed 9-11-23; 8:45 am]

BILLING CODE 6717-01-P